DEPARTMENT OF TRANSPORTATION

Federal Aviation Administration

14 CFR Part 71

[Docket No. FAA-2010-0049; Airspace Docket No. 08-AWA-1]

RIN 2120-AA66

Proposed Modification of Class B Airspace; Charlotte, NC

AGENCY: Federal Aviation Administration (FAA), DOT.

ACTION: Notice of proposed rulemaking (NPRM); correction.

SUMMARY: This action provides the graphic chart for the proposed rule published in the Federal Register of March 3, 2010, regarding the modification of Class B airspace, Charlotte, NC. This correction adds the chart that was inadvertently omitted from the NPRM.

DATES: Comments must be received on or before May 3, 2010.

FOR FURTHER INFORMATION CONTACT: Paul Gallant, Airspace and Rules Group, Office of System Operations Airspace and AIM, Federal Aviation Administration, 800 Independence Avenue, SW., Washington, DC 20591; telephone: (202) 267-8783.

Correction

In proposed rule FR Doc. 2010-4377, beginning on page 9538 in the issue of March 3, 2010, make the following correction: On page 9544 in the first column, add the attached graphic chart before the Issue Date line.

Issued in Washington, DC, on March 9, 2010.
Edith V. Parish,
Manager, Airspace and Rules Group.

[FR Doc. 2010-5879 Filed 3-17-10; 8:45 am]

BILLING CODE 4910-13-P